DEPARTMENT OF JUSTICE

Antitrust Division

United States v. Mountain Health Care, P.A. Civil Action No. 1:02CV288-T (W.D.N.C.); Response to Public Comments

Notice is hereby given pursuant to the Antitrust Procedures and Penalties Act, 15 U.S.C. 16(b)-(h), that Public Comments and the Response of the United States have been filed with the United States District Court for the Western District of North Carolina in United States v. Mountain Health Care, P.A. Civil Action No. 1:02CV288-T (W.D.N.C., filed December 13, 2002). On December 13, 2002, the United States filed a Complaint alleging that defendant, Mountain Health Care, P.A. (“MCH”) and its physician owners and members, restrained competition in the sale of physician services to managed health care purchasers, in violation of section 1 of the Sherman act, 15 U.S.C. 1. The proposed Final Judgment, filed at the same time as the Complaint, requires MHC to dissolve.

Public comment was invited within the statutory 60-day comment period. Such Comments, and the Responses thereto, are hereby published in the Federal Register and have been filed with the Court. Copies of the Complaint, Stipulation, proposed Final Judgment, Competitive Impact Statement, Public Comments and the Response of the United States are available for inspection in Room 4000 of the Antitrust Division, Department of Justice, 1401 H Street, NW., Washington, DC 20530 (telephone: 202-307-0001) and at the Office of the Clerk of the United States District Court for the Western District of North Carolina, Room 212, 401 West Trade Street, Charlotte, North Carolina.

Copies of any of these materials may be obtained upon request and payment of a copying fee.

Constance K. Robinson,
Director of Operations, Antitrust Division.

[FR Doc. 03-19967 Filed 8-5-03; 8:45 am]

BILLING CODE 4410-11-M